DEPARTMENT OF DEFENSE

Department of the Army; Corps of Engineers

Notice of Open House—Draft Environmental Impact Statement for Revised Water Control Manuals for the Alabama-Coosa-Tallapoosa River Basin

AGENCY: Department of the Army, U.S. Army Corps of Engineers, DoD.

ACTION: Notice of Open House meetings.

SUMMARY: Notice is hereby given that the U.S. Army Corps of Engineers, Mobile District (USACE), will conduct open house style meetings and accept comments on the Draft Environmental Impact Statement (DEIS) for the update of the Alabama-Coosa-Tallapoosa River Basin (ACT) Water Control Master Manual (Master Manual). The public comment period began with the Notice of Availability published by the Environmental Protection Agency on March 1, 2013 and will end 60 days after that date. The open houses will be held at the times and places indicated in the SUPPLEMENTARY INFORMATION section.

DATES: Comments on the DEIS are due by May 1, 2013 and should be submitted as indicated in the SUPPLEMENTARY INFORMATION section.

FOR FURTHER INFORMATION CONTACT: Mr. Lewis Sumner at telephone (251) 694-3857.

SUPPLEMENTARY INFORMATION: The Master Manual includes appendices prepared for individual projects in the ACT Basin and is the guide used by USACE to operate a system of five Federal reservoir projects in the basin—Allatoona Dam and Lake, Carters Dam and Lake and Carters Reregulation Dam, Robert F. Henry Lock and Dam and R.E. “Bob” Woodruff Lake, Millers Ferry Lock and Dam and William “Bill” Dannelly Lake, and Claiborne Lock and Dam and Lake. In addition the Master Manual includes appendices prepared for two of the Alabama Power Company (APC) projects for which USACE has authority for flood risk management water management control—Neely Henry and R.L. Harris. APC regulates these two non-federal projects in compliance with the projects' Federal Energy Regulatory Commission (FERC) licenses and in accordance with USACE water control plans for flood management regulation and navigation support.

USACE is updating the water control plans and manuals for the ACT Basin in order to improve operations for authorized purposes to reflect changed conditions since the manuals were last developed. The purpose and need for the updated Master Manual is to determine how the federal projects in the ACT Basin should adjust operations for their authorized purposes, in light of current conditions and applicable law and to implement those operations through updated water control plans and manuals. The updated plans and manuals will comply with existing USACE regulations and reflect operations under existing congressional authorizations, taking into account changes in basin hydrology and demands from years of growth and development, new/rehabilitated structural features, legal developments, and environmental issues.

USACE regulations also provide specific policy and guidance for inclusion of drought contingency plans as part of USACE's overall water control management activities in the basin. To be effective, the drought plan must incorporate a comprehensive, basin-wide approach that considers the interrelationship of USACE projects and APC projects and the proposed drought plan was developed in collaboration with APC.

USACE's objectives for the Master Manual are to develop a Water Control Plan that meets the existing water resources needs of the basin, fulfills its responsibilities in operating for the authorized project purposes, and complies with all pertinent laws. The DEIS presents the results of USACE's analysis of the environmental effects of the Proposed Action Alternative (PAA) that the USACE believes accomplishes these objectives.

USACE evaluated an array of potential water management alternatives during the Master Manual update process, resulting in the selection of the PAA. Additional information on the components of the PAA can be found at www.sam.usace.army.mil/Missions/PlanningEnvironmental/ACTMasterWaterControlManualUpdate/ACTDocumentLibrary.aspx. One alternative available to USACE is to continue with current operations. This approach is termed the No Action Alternative (NAA). Neither the PAA nor the NAA would alter existing water supply storage allocations, fish spawning or fish passage operations.

The proposed action does not include the building, installing, or upgrading of any facilities. USACE will not modify any authorized project purpose via this action, although the extent to which some can be achieved may be affected. This action is limited to the way reservoir levels are managed and water is released from them.

Document Availability

The DEIS and appendices are available to the public for review in the following formats:

• Online as PDF documents at www.sam.usace.army.mil/Missions/PlanningEnvironmental/ACTMasterWaterControlManualUpdate/ACTDocumentLibrary.aspx.

• As a CD or bound copies when requested in writing to: Commander, U.S. Army Corps of Engineers, Mobile District, Attn: PD-EI (ACT-DEIS), P.O. Box 2288, Mobile AL 36628.

• A limited number of CD copies will also be available at the DEIS open houses.

Public Review and Comment

USACE recognizes that the decisions made concerning revisions to the water control operations at USACE projects within the ACT Basin will have wide-ranging effects and encourages the public to submit comments on the content of the DEIS. All persons and organizations that have a potential interest in the proposed action, including minority, low-income, disadvantaged, and Native American groups, are urged to participate in this NEPA environmental analysis process by reviewing the DEIS and submitting comments for consideration.

Comments may be submitted via the following methods:

• Onsite at open houses through comment cards.

• Verbally through the court reporter at open houses.

• Online at www.sam.usace.army.mil/Missions/PlanningEnvironmental/ACTMasterWaterControlManualUpdate.

• By emailing act-wcm@usace.army.mil.

• By letter addressed to: Commander, U.S. Army Corps of Engineers, Mobile District, Attn: PD-EI (ACT-DEIS), P.O. Box 2288, Mobile AL 36628.

Further information regarding the update of the Master Manual, including all available documents, background and historical information, and updates is available online at the Web site given above.

Open Houses

Open house style meetings will be held the week of March 25, 2013 at the following locations and times:

• Monday, March 25 from 5-8 p.m. at Cobb Conference Center 755 Cobb Place Blvd. NW., Kennesaw, GA 30144.

• Tuesday, March 26 from 5-8 p.m. at The Forum Civic Center, 2 Government Plaza, Rome, GA 301901.

• Wednesday, March 27 from 4-7 p.m. at The Senior Activity Center, 623 Broad Street, Gadsden, AL 35901.

• Thursday, March 28 from 5-8 p.m. at Auburn University-Montgomery, Center for Lifelong Learning, 75 TechnaCenter Drive, Montgomery, AL 36117.

Next Steps

All comments will be catalogued and reviewed after the 60-day public comment period. The final EIS (FEIS) is scheduled to be completed and filed with the USEPA in the summer of 2013. The Record of Decision, if appropriate, will be signed following the FEIS and the Master Manual is scheduled to be approved in October 2013.

Thomas F. Nelson,
Lt. Colonel, Deputy Commander, Mobile District, U.S. Army Corps of Engineers.

[FR Doc. 2013-05416 Filed 3-7-13; 8:45 am]

BILLING CODE 3720-58-P